DEPARTMENT OF THE INTERIOR

National Park Service

[NPS-WASO-NAGPRA-NPS0037672; PPWOCRADN0-PCU00RP14.R50000]

Notice of Inventory Completion: University of California, Riverside, Riverside, CA

AGENCY: National Park Service, Interior.

ACTION: Notice.

SUMMARY: In accordance with the Native American Graves Protection and Repatriation Act (NAGPRA), the University of California, Riverside (UCR) has completed an inventory of human remains and associated funerary objects and has determined that there is a cultural affiliation between the human remains and associated funerary objects and Indian Tribes or Native Hawaiian organizations in this notice.

DATES: Repatriation of the human remains and associated funerary objects in this notice may occur on or after May 8, 2024.

ADDRESSES: Megan Murphy, University of California, Riverside, 900 University Avenue, Riverside, CA 92517-5900, telephone (951) 827-6349, email megan.murphy@ucr.edu.

SUPPLEMENTARY INFORMATION: This notice is published as part of the National Park Service's administrative responsibilities under NAGPRA. The determinations in this notice are the sole responsibility of the University of California, Riverside, and additional information on the determinations in this notice, including the results of consultation, can be found in the inventory or related records. The National Park Service is not responsible for the determinations in this notice.

Abstract of Information Available

Based on the information available, human remains representing, at least, four individuals have been reasonably identified. The 47 lots of associated funerary objects are eight lots of animal bone, four lots of ceramics, six lots of glass objects, seven lots of lithic objects and debitage, four lots of shell beads, two lots of botanical materials, six lots of mineralogical objects, four lots of unmodified shell, four lots of metal, one lot of leather, and one lot of geological materials. Between 1989 and 1993, archaeologists associated with the University of California, Riverside's Archaeological Research Unit (UCR-ARU) excavated different areas of archaeological site CA-RIV-102 also known as the Lochmiller Site including CA-RIV-3757, CA-RIV-3758, CA-RIV-3759, CA-RIV-3760, CA-RIV-3761, CA-RIV-3788, and CA-RIV-3789. The Lochmiller Site is known to Cahuilla and Luiseno communities as the historic village of Pahsitnah and is situated in the Santa Rosa Hills in the town of Hemet. The site was first excavated by UCR-ARU in 1977, but continued excavations produced a total of eight separate archaeological collections at the University of California, Riverside. Human remains have been identified in five of the eight collections currently housed at UCR from Pahsitnah and are likely to be present in the other three collections. No known individuals have been identified.

Cultural Affiliation

Based on the information available and the results of consultation, cultural affiliation is clearly identified by the information available about the human remains and associated funerary objects described in this notice.

Determinations

The University of California, Riverside has determined that:

• The human remains described in this notice represent the physical remains of four individuals of Native American ancestry.

• The 47 lots of objects described in this notice are reasonably believed to have been placed intentionally with or near individual human remains at the time of death or later as part of the death rite or ceremony.

• There is a reasonable connection between the human remains and associated funerary objects described in this notice and the Agua Caliente Band of Cahuilla Indians of the Agua Caliente Indian Reservation, California; Cahuilla Band of Indians; Los Coyotes Band of Cahuilla and Cupeno Indians, California; Pechanga Band of Indians (previously listed as Pechanga Band of Luiseno Mission Indians of the Pechanga Reservation, California); Ramona Band of Cahuilla, California; Santa Rosa Band of Cahuilla Indians, California; and the Soboba Band of Luiseno Indians, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 8, 2024. If competing requests for repatriation are received, the University of California, Riverside must determine the most appropriate requestor prior to repatriation. Requests for joint repatriation of the human remains and associated funerary objects are considered a single request and not competing requests. The University of California, Riverside is responsible for sending a copy of this notice to the Indian Tribes and Native Hawaiian organizations identified in this notice.

Authority: Native American Graves Protection and Repatriation Act, 25 U.S.C. 3003, and the implementing regulations, 43 CFR 10.10.

Dated: March 22, 2024.
Melanie O'Brien,
Manager, National NAGPRA Program.

[FR Doc. 2024-07358 Filed 4-5-24; 8:45 am]

BILLING CODE 4312-52-P